DEPARTMENT OF THE INTERIOR

Fish and Wildlife Service

50 CFR Part 36

[Docket No. FWS-R7-NWRS-2017-0058; FF07R00000 178 FXRS12610700000]

Refuge-Specific Regulation; Public Use; Kenai National Wildlife Refuge

AGENCY: Fish and Wildlife Service, Interior.

ACTION: Regulatory review.

SUMMARY: The U.S. Fish and Wildlife Service (FWS) intends to initiate a rulemaking process that will consider changes to public use regulations that are applicable to Kenai National Wildlife Refuge and that were promulgated on May 5, 2016.

DATES: October 2, 2017.

ADDRESSES: The final rule that is the subject of this document may be found at www.regulations.gov in Docket No. FWS-R7-NWRS-2017-0058.

FOR FURTHER INFORMATION CONTACT: Ryan Mollnow, Division of Natural Resources Chief, National Wildlife Refuge System—Alaska, 1011 E. Tudor Road, Anchorage, AK 99503; telephone: (907) 786-3326; facsimile: (907) 786-3901; email: ryan_mollnow@fws.gov.

SUPPLEMENTARY INFORMATION: On May 5, 2016, the FWS published a final rule to amend its regulations in title 50 of the Code of Federal Regulations (CFR) in part 36 regarding public use of Kenai National Wildlife Refuge (81 FR 27030). The final rule became effective on June 6, 2016. The provisions of the final rule:

(1) amended regulations regarding use of aircraft, motorboats, motorized vehicles, and snowmobiles;

(2) codified historic restrictions on hunting and trapping within the Skilak Wildlife Recreation Area (WRA) consistent with the 2007 Skilak WRA final revised management plan;

(3) expanded a prohibition on the discharge of firearms to include areas of intensive public use along the Russian and Kenai Rivers;

(4) clarified the intent of existing regulations that require a special use permit for hunting black bears over bait by specifying that only the take of black bears is authorized under this requirement;

(5) amended regulations associated with camping, use of public use cabins, and public use facilities;

(6) established permanent regulations for managing wildlife attractants in the Russian River Special Management Area to reduce potential for human-bear conflicts; and

(7) established regulations allowing for noncommercial gathering of edible wild foods and shed antlers.

The FWS intends to initiate a rulemaking process that will consider changes to the May 5, 2016, final rule (81 FR 27030) that was codified at 50 CFR part 36. Throughout this process, the FWS will consider the purposes of Secretarial Order 3347 (“Conservation Stewardship and Outdoor Recreation”): Enhanced conservation stewardship, increased opportunities for outdoor recreation, including hunting and fishing, for all Americans, and improved management of game species and their habitat. The FWS will also identify ways to improve cooperation, consultation, and communication with State of Alaska wildlife managers regarding recreational hunting and fishing.

At this time, the FWS is not accepting comments on the upcoming rulemaking process. When we publish a proposed rule in the Federal Register, the FWS will comply with all applicable laws governing the rulemaking process, including the requirement under 5 U.S.C. 553 to provide an opportunity for public comment on any proposed regulatory changes.

Authority: 16 U.S.C. 460k et seq., 668dd-668ee, 3101 et seq.

Todd Willens,
Acting Assistant Secretary for Fish and Wildlife and Parks.

[FR Doc. 2017-21124 Filed 9-29-17; 8:45 am]

BILLING CODE 4333-15-P